NUCLEAR REGULATORY COMMISSION

[NRC-2014-0279]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 11 to December 24, 2014. The last biweekly notice was published on December 23, 2014.

DATES: Comments must be filed by February 5, 2015. A request for a hearing must be filed by March 9, 2015.

ADDRESSES: You may submit comments by any of the following methods (unless this document describes a different method for submitting comments on a specific subject):

• Federal Rulemaking Web site: Go to http://www.regulations.gov and search for Docket ID NRC-2014-0279. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington DC 20555-0001; 301-415-1384, Janet.Burkhardt@nrc.gov.

SUPPLEMENTARY INFORMATION:

I. Obtaining Information and Submitting Comments

A. Obtaining Information

Please refer to Docket ID NRC-2014-0279 when contacting the NRC about the availability of information regarding this document. You may obtain publicly-available information related to this action by the following methods:

• Federal Rulemaking Web site: Go to http://www.regulations.gov and search for Docket ID NRC-2014-0279.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0279 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity to Request a Hearing and Petition for Leave to Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing).

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Entergy Gulf States Louisiana, LLC, and Entergy Operations, Inc., Docket No. 50-458, River Bend Station, Unit 1, West Feliciana Parish, Louisiana

Date of amendment request: September 2, 2014. A publicly-available version is in ADAMS under Accession No. ML14261A091.

Description of amendment request: The proposed amendment would revise or add technical specification (TS) surveillance requirements (SRs) that require verification that the Emergency Core Cooling System (ECCS), the Residual Heat Removal (RHR)/Shutdown Cooling (SDC) System, the Containment Spray (CS) System, and the Reactor Core Isolation Cooling (RCIC) System are not rendered inoperable due to accumulated gas and to provide allowances which permit performance of the revised verification. The changes are being made to address the concerns discussed in Generic Letter 2008-01, “Managing Gas Accumulation in Emergency Core Cooling, Decay Heat Removal, and Containment Spray Systems.” The proposed TS changes are based on NRC-approved TS Task Force (TSTF) Traveler TSTF-523, Revision 2, “Generic Letter 2008-01, Managing Gas Accumulation,” dated February 21, 2013 (ADAMS Accession No. ML13053A075). The NRC staff issued a Notice of Availability for TSTF-523, Revision 2, for plant-specific adoption using the consolidated line item improvement process, in the Federal Register on January 15, 2014 (79 FR 2700).

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds SRs that require verification that the Emergency Core Cooling System (ECCS), the Shutdown Cooling (SDC), Residual Heat Removal (RHR), and the Reactor Core Isolation Cooling (RCIC) Systems are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, the RHR, SDC, and the RCIC Systems are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, the RHR, SDC, and the RCIC Systems are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Council—Nuclear, Entergy Services, Inc., 639 Loyola Avenue, New Orleans, Louisiana 70113.

NRC Branch Chief: Douglas A. Broaddus.

Entergy Nuclear Operations, Inc., Docket No. 50-255, Palisades Nuclear Plant (PNP), Van Buren County, Michigan

Date of amendment request: June 25, 2013, as supplemented by letters dated August 7, 2013, February 13, July 16, and December 9, 2014. Publicly-available versions are in ADAMS under Accession Nos. ML13176A405, ML13220A008, ML14044A059, ML14199A101, and ML14343A581, respectively.

Description of amendment request: This license amendment was originally noticed in the Federal Register on March 18, 2014 (79 FR 15148). This no significant hazards consideration determination and opportunity for hearing is being reissued in its entirety to include additional revisions to the PNP Site Emergency Plan (SEP). Specifically, the amendment would modify staffing of the radiation protection (RP) technicians, increase certain Emergency Response Organization (ERO) positions with 30-minute staff augmentation response times to 60-minute response times, and would add monitoring teams as augmented responders.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not affect previously analyzed event probabilities or any parameters associated with plant operations. The changes affect the site response to radiological emergencies under the PNP SEP. The effect of the proposed changes on the ability of the ERO to responds adequately to radiological emergencies has been evaluated, and the proposed changes would not significantly affect the ability of the site to perform the required SEP tasks.

Therefore, the proposed change does not involve a significant increase in the probability or consequences of an accident previously evaluated.

2. Does the proposed change create the possibility of a new or different kind of accident from any accident previously evaluated?

Response: No.

The proposed changes have no effect on the plant design or on the normal operation of the plant, and do not affect how systems and components are operated under emergency conditions. The proposed changes affect the site response to radiological emergencies under the PNP SEP. The changes do not significantly affect the ability of the site to respond to radiological emergencies and perform required ERO functions, and do not affect the plant operating procedures which are performed by plant staff during plant conditions.

Therefore, the proposed change does not create the possibility of a new or different kind of accident from any previously evaluated.

3. Does the proposed change involve a significant reduction in a margin of safety?

Response: No.

The proposed change does not affect plant design, method of plant operation, or any protective boundaries. 10 CFR 50.47(b) and 10 CFR 50 Appendix E establish emergency planning standards and requirements for adequate staffing, satisfactory performance of key functional areas and critical tasks, and timely augmentation of the response capability. Since the PNP SEP was originally developed, there have been improvements in the technology used to support the SEP functions and the capabilities of onsite personnel. The proposed changes do not significantly affect the ability of the ERO to perform required SEP tasks. Thus, the proposed change does not adversely affect the ability to meet the emergency planning standards as described in 10 CFR 50.47(b) and the requirements in 10 CFR 50 Appendix E.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William Dennis, Assistant General Counsel, Entergy Nuclear Operations, Inc., 440 Hamilton Ave., White Plains, NY 10601.

NRC Branch Chief: David L. Pelton.

Entergy Nuclear Operations, Inc., Docket No. 50-255, Palisades Nuclear Plant, Van Buren County, Michigan

Date of amendment request: November 12, 2014. A publicly-available version is in ADAMS under Accession No. ML14316A370.

Description of amendment request: The amendment would approve the licensee's equivalent margin analysis, performed in accordance with Title 10 of the Code of Federal Regulations (10 CFR) 50, Appendix G, which demonstrates that materials predicted to possess Charpy upper shelf energy values less than 50 ft-lbs will provide margins of safety against fracture, equivalent to those required by Appendix G of Section XI of the American Society of Mechanical Engineers Boiler and Pressure Vessel Code.

Basis for proposed no significant hazards consideration determination: As required by 10 CFR 50.91(a), the licensee has provided its analysis of the issue of no significant hazards consideration, which is presented below:

1. Does the proposed change involve a significant increase in the probability or consequences of an accident previously evaluated?

Response: No.

This amendment request is for approval of an equivalent margins analysis (EMA) in accordance with 10 CFR 50 Appendix G, Section IV, “Fracture Toughness Requirements.” The EMA is to demonstrate that reactor vessel beltline material predicted to possess Charpy Upper Shelf Energy (USE) values less than 50 ft-lb will provide margins of safety against fracture equivalent to those required by Appendix G of Section XI of the American Society of Mechanical Engineers (ASME) Boiler and Pressure Vessel Code.

The EMA does not involve a significant increase in the probability or consequences of an accident, and does not result in physical alteration of a plant structure, system or component (SSC) or installation of new or different types of equipment. The EMA does not affect plant operation or any design function. The EMA verifies the capability of a [SSC] to perform a design function. Further, the EMA does not significantly affect the probability of accidents previously evaluated in the Updated Final Safety Analysis Report (UFSAR), or cause a change to any of the does analyses associated with the UFSAR accidents because accident mitigation functions would remain unchanged.

Therefore, the proposed change does not involve a significant increase in the probability or consequences of an accident previously evaluated.

2. Does the proposed change create the possibility of a new or different type of accident from any accident previously evaluated?

Response: No.

The amendment request is for approval of an EMA in accordance with 10 CFR 50 Appendix G, Section IV. The EMA is to demonstrate that reactor vessel beltline material predicted to possess Charpy USE values less than 50 ft-lb will provide margins of safety against fracture equivalent to those required by Appendix G of Section XI of the ASME Boiler and Pressure Vessel Code. The EMA does not change the design function, operation, or integrity of the reactor vessel, and does not challenge the performance or integrity of any safety-related systems. No physical plant alterations are made as a result of the proposed change. The EMA will not create the possibility of a new or different kind of accident due to credible new failure mechanisms, malfunctions, or accident initiators not considered in the design and licensing basis.

Therefore, the proposed change does not create the possibility of a new or different kind of accident from any previously evaluated.

3. Does the proposed change involve a significant reduction in a margin of safety?

Response: No.

The amendment request is for approval of an EMA in accordance with 10 CFR 50 Appendix G, Section IV. The EMA is to demonstrate that reactor vessel beltline material predicted to possess Charpy USE values less than 50 ft-lb will provide margins of safety against fracture equivalent to those required by Appendix G of Section XI of the ASME Boiler and Pressure Vessel Code. As such, there is no significant reduction in the margin of safety as a result of the EMA. No design bases or safety limits are exceeded or altered due to the EMA. The margin of safety associated with the acceptance criteria of accidents previously evaluated in the UFSAR is unchanged. The proposed change has no effect on the availability, operability, or performance of the safety-related systems and components.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William Dennis, Assistant General Counsel, Entergy Nuclear Operations, Inc., 440 Hamilton Ave., White Plains, NY 10601.

NRC Branch Chief: David L. Pelton.

Entergy Operations, Inc., Docket No. 50-313, Arkansas Nuclear One, Unit No. 1, Pope County, Arkansas

Date of amendment request: November 21, 2014. A publicly-available version is in ADAMS under Accession No. ML14330A246.

Description of amendment request: The amendment would revise the Technical Specifications for reactor coolant system (RCS) heatup, cooldown, and inservice leak hydrostatic test pressure/temperature (P/T) limitations, as well as the setpoints for the low temperature overpressure protection (LTOP) system, to reflect unit operation to a maximum of 54 effective full power years (EFPYs). The current limits are applicable up to 31 EFPYs.

Basis for proposed no significant hazards consideration determination: As required by 10 CFR 50.91(a), the licensee has provided its analysis of the issue of no significant hazards consideration, which is presented below:

1. Does the proposed change involve a significant increase in the probability or consequences of an accident previously evaluated?

Response: No.

The proposed change will revise the heatup, cooldown, and inservice leak hydrostatic test limitations for the Reactor Coolant System (RCS) to a maximum of 54 Effective Full Power Years (EFPY) in accordance with 10 CFR 50, Appendix G. This is the end of the period of extended operation. Further, the proposed amendment revises the enable temperature and the lift setpoint for Low Temperature Overpressurization Protection (LTOP) requirements to reflect the revised P/T limits of the reactor vessel. The P/T limits were developed in accordance with the requirements of 10 CFR 50, Appendix G, utilizing the analytical methods and flaw acceptance criteria of Topical Report BAW-10046A, Revision 2, and American Society of Mechanical Engineers (ASME) [Boiler and Pressure Vessel] Code, Section XI, Appendix G. These methods and criteria are the previously NRC approved standards for the preparation of P/T limits. Updating the P/T limits for additional EFPYs maintains the level of assurance that reactor coolant pressure boundary integrity will be maintained, as specified in 10 CFR 50, Appendix G.

The proposed changes do not adversely affect accident initiators or precursors, and do not alter the design assumptions, conditions, or configuration of the plant or the manner in which the plant is operated and maintained. The ability of structures, systems, and components to perform their intended safety functions is not altered or prevented by the proposed changes, and the assumptions used in determining the radiological consequences of previously evaluated accidents are not affected.

Therefore, this change does not involve a significant increase in the probability or consequences of an accident previously evaluated.

2. Does the proposed change create the possibility of a new or different kind of accident from any accident previously evaluated?

Response: No.

The proposed changes incorporate methodologies that either have been approved or accepted for use by the NRC (provided that any conditions/limitations are satisfied). The P/T limits and LTOP limits will provide the same level of protection to the reactor coolant pressure boundary as was previously evaluated. Reactor coolant pressure boundary integrity will continue to be maintained in accordance with 10 CFR 50, Appendix G, and the assumed accident performance of plant structures, systems and components will not be affected. These changes do not involve any physical alteration of the plant (i.e., no new or different type of equipment will be installed), and installed equipment is not being operated in a new or different manner. Thus, no new failure modes are introduced.

Therefore, this change does not create the possibility of a new or different kind of accident from an accident previously evaluated.

3. Does the proposed change involve a significant reduction in a margin of safety?

Response: No.

The proposed changes do not affect the function of the reactor coolant pressure boundary or its response during plant transients. By calculating the P/T limits and associated LTOP limits using NRC-approved methodology, adequate margins of safety relating to reactor coolant pressure boundary integrity are maintained. The proposed changes do not alter the manner in which safety limits, limiting safety system settings, or limiting conditions for operation are determined. These changes will ensure that protective actions are initiated and the operability requirements for equipment assumed to operate for accident mitigation are not affected.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Acting Branch Chief: Eric R. Oesterle.

NextEra Energy Seabrook LLC, Docket No. 50-443, Seabrook Station, Unit No. 1, Rockingham County, New Hampshire

Date of amendment request: September 24, 2014, as supplemented by letter dated December 11, 2014. Publicly-available versions are in ADAMS under Accession Nos. ML14273A012 and ML14349A645, respectively.

Description of amendment request: The proposed amendment would change the Facility Operating License and Technical Specifications (TSs). The proposed changes will revise License Condition 2.K and delete the functional unit “Cold Leg Injection, P-15” from TS 3.3.2, “Engineered Safety Features Actuation System Instrumentation.”

Basis for proposed no significant hazards consideration determination: As required by 10 CFR 50.91(a), the licensee has provided its analysis of the issue of no significant hazards consideration, along with NRC edits in square brackets, is presented below:

1. Does the proposed change involve a significant increase in the probability or consequences of an accident previously evaluated?

Response: No.

The proposed change deletes from the TS functional unit 10.d “Cold Leg Injection, P-15,” which would prevent opening of the high-head safety injection valves until reactor coolant system pressure decreases below the P-15 setpoint. This feature has not been installed in the plant, and the TS requirements for permissive P-15 have not been implemented. Eliminating a feature that has not been implemented in the plant is not an initiator of any accident previously evaluated. Therefore, the probability of an accident previously evaluated is not significantly increased. The proposed change has no impact on equipment required to be operable for accident mitigation; consequently, the change does not significantly increase the consequences of any accident previously evaluated.

2. Does the proposed change create the possibility of a new or different kind of accident from any previously evaluated?

Response: No.

The proposed change does not involve a physical alteration of the plant (no new or different type of equipment will be installed) or a change in the methods governing normal plant operation. No new accident scenarios, failure mechanisms, or limiting single failures are introduced as a result of the proposed change because no physical changes are made to the plant. Therefore, the proposed change to the TS does not create the possibility of a new or different kind of accident from any accident previously evaluated[.]

3. Does the proposed change involve a significant reduction in the margin of safety?

Response: No.

The ability of any operable SSC [structure, system or component] to perform its designated safety function is unaffected by the proposed change. The proposed change does not alter any safety analyses assumptions, safety limits, limiting safety system settings, or method of operating the plant. The change does not adversely impact plant operating margins or the reliability of equipment credited in the safety analyses.

The Seabrook analysis for inadvertent operation of the emergency core cooling system credits operator to terminate safety injection flow. The addition of permissive P-15 to the plant design and TS was initiated to increase the time available for the operators to terminate an inadvertent safety injection actuation. However, the amendment is still within the implementation period and the TS change and associated design change have not been implemented. Currently, without the P-15 function, the operators are capable of terminating safety injection flow within the assumed time limits, and performance meets Seabrook's administrative limit for completing time critical actions within 80% of the required time.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William Blair, Managing Attorney, Florida Power & Light Company, P.O. Box 14000, Juno Beach, FL 33408-0420.

NRC Branch Chief: Meena Khanna.

South Carolina Electric and Gas Company, Docket Nos. 52-027 and 52-028, Virgil C. Summer Nuclear Station (VCSNS), Units 2 and 3, Fairfield County, South Carolina

Date of amendment request: October 30, 2013. A publicly-available version is in ADAMS under Accession No. ML14303A448.

Description of amendment request: The proposed change would amend Combined License Nos. NPF-93 and NPF-94 for the VCSNS Units 2 and 3 by departing from the plant-specific Design Control Document (DCD) Tier 1 (and corresponding Combined License Appendix C information) and Tier 2 material by making changes to specify the use of latching control relays in lieu of breakers to open the control rod drive mechanism (CRDM) motor generator (MG) set generator field on a diverse actuation system (DAS) signal.

Because, this proposed change requires a departure from Tier 1 information in the Westinghouse Advanced Passive 1000 DCD, the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed change to use field control relays in lieu of field circuit breakers to de-energize the CRDM MG Set excitation field does not result in a change to the basic MG Set design function, which is to supply reliable electrical power to the CRDMs while providing a trip function on a DAS signal, allowing the control rods to drop. The Probabilistic Risk Assessment (PRA) is not adversely affected. No safety-related structure, system, or component (SSC) or function is adversely affected. The change does not involve nor interface with any SSC accident initiator or initiating sequence of events, and thus, the probabilities of the accidents evaluated in the UFSAR [Updated Final Safety Analysis Report] are not affected. Because the change maintains the CRDM MG set trip function used to mitigate an accident, the consequences of the accidents evaluated in the UFSAR are not affected.

Therefore, there is no significant increase in the probability or consequences of an accident previously evaluated.

2. Does the proposed amendment create the possibility of a new or different kind of accident from any accident previously evaluated?

Response: No.

There is no safety-related SSC or function adversely affected by this proposed change to use control relays instead of breakers to de-energize the CRDM MG set generator field on demand. This proposed change does not change any equipment qualification or fission product barrier. The change does not result in a new failure mode, malfunction or sequence of events that could affect safety or safety-related equipment. This activity will not allow for a new fission product release path, result in a new fission product barrier failure mode, or create a new sequence of events that would result in significant fuel cladding failures.

Therefore, this activity does not create the possibility of a new or different kind of accident from any accident previously evaluated.

3. Does the proposed amendment involve a significant reduction in a margin of safety?

Response: No.

There is no safety-related SSC or function adversely affected by this proposed change to use relays instead of breakers to control the CRDM MG set generator field. The function to trip the MG set generator field on a DAS signal, allowing the control rods to drop, is not adversely affected by the use of relays as the device to de-energize the generator field. The proposed change does not affect any safety-related design code, function, design analysis, safety analysis input or result, or design/safety margin. No safety analysis or design basis acceptance limit/criterion is challenged or exceeded by the requested change, thus, no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

South Carolina Electric and Gas Company, Docket Nos. 52-027 and 52-028, Virgil C. Summer Nuclear Station (VCSNS), Units 2 and 3, Fairfield County, South Carolina

Date of amendment request: September 18, 2014. A publicly-available version is in ADAMS under Accession No. ML14261A360.

Description of amendment request: The proposed license amendment would depart from VCSNS Units 2 and 3 plant-specific Design Control Document (DCD) Tier 2* material contained within the Updated Final Safety Analysis Report (UFSAR) by relocating fire area rated fire barriers due to changes to the layout of the switchgear rooms and office area in the turbine building.

Basis for proposed no significant hazards consideration determination: As required by 10 CFR 50.91(a), the licensee has provided its analysis of the issue of no significant hazards consideration, which is presented below:

1. Does the proposed amendment involve a significant increase in the probability or consequences of an accident previously evaluated?

Response: No.

The proposed reconfiguration of the turbine building switchgear rooms, the control system cabinet room, the new electrical equipment room, and the associated heating, ventilation, and air conditioning (HVAC) room would not adversely affect any safety-related equipment or function. The modified configuration will maintain the fire protection function (i.e., barrier) as evaluated in Updated Final Safety Analysis Report (UFSAR) Appendix 9A, thus, the probability of a spread of a fire from these areas is not significantly increased. The safe shutdown fire analysis is not affected, and the fire protection analysis results are not adversely affected. The proposed changes affect nonsafety-related electrical switchgear and do not involve any accident, initiating event, or component failure; thus, the probabilities of the accidents previously evaluated are not affected. The proposed changes do not interface with or affect any system containing radioactivity or affect any radiological material release source terms; thus, the radiological releases in the accident analyses are not affected.

Therefore, the proposed amendment does not involve a significant increase in the probability or consequences of an accident previously evaluated.

2. Does the proposed amendment create the possibility of a new or different kind of accident from any accident previously evaluated?

Response: No.

The proposed changes to the fire zones in the turbine building related to the turbine building switchgear rooms, the control system cabinet room, the new electrical equipment room, the associated HVAC room, and stairway will maintain the fire barrier fire protection function as evaluated in the UFSAR Appendix 9A. The changes to the fire areas and fire zones do not affect the function of any safety-related structure, system, or component, and thus, do not introduce a new failure mode. The affected turbine building areas and equipment do not interface with any safety-related equipment or any equipment associated with radioactive material and, thus, do not create a new fault or sequence of events that could result in a new or different kind of accident.

Therefore, the proposed amendment does not create the possibility of a new or different kind of accident from any accident previously evaluated.

3. Does the proposed amendment involve a significant reduction in a margin of safety?

Response: No.

The proposed reconfiguration of the fire zones associated with the turbine building switchgear rooms, the electrical equipment room, and the associated HVAC room will maintain the fire barrier fire protection function as evaluated in the UFSAR Appendix 9A. The fire barriers and equipment in the turbine building do not interface with any safety-related equipment or affect any safety-related function. The changes to the area barriers associated with the turbine building switchgear and associated HVAC continue to comply with the existing design codes and regulatory criteria, and do not affect any safety analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

Southern California Edison Company (SCE), et al., Docket Nos. 50-206, 50-361, 50-362, and 72-041, San Onofre Nuclear Generating Station (SONGS), Units 1, 2 and 3, and Independent Spent Fuel Storage Installation, San Diego County, California

Date of amendment request: March 31, 2014, as supplemented by letter dated October 21, 2014. Publicly-available versions are in ADAMS under Accession Nos. ML14092A249 and ML14297A016, respectively.

Description of amendment request: The proposed amendment would modify the SONGS facility operating license by revising the emergency action level (EAL) scheme consistent with the SONGS permanent shutdown and defueled status. On June 12, 2013, SCE submitted a certification of permanent cessation of power operations pursuant to 10 CFR 50.82(a)(1)(i), stating that SCE had decided to permanently cease power operation of SONGS effective June 7, 2013. With the docketing of subsequent certifications for permanent removal of fuel from the reactor vessels pursuant to 10 CFR 50.82(a)(1)(ii) on June 28, 2013, and July 22, 2013, for Units 3 and 2, respectively, the 10 CFR part 50 license for SONGS Units 2 and 3 no longer authorizes operation of the reactor or emplacement or retention of fuel into the reactor vessel, as specified in 10 CFR 50.82(a)(2). SONGS Unit 1 was permanently shut down in 1993 and is in the decommissioning phase. The proposed changes to the EAL scheme are being submitted to the NRC for approval prior to implementation, as required under 10 CFR 50.54(q)(4) and 10 CFR part 50, Appendix E, Section IV.B.2.

Basis for proposed no significant hazards consideration determination: As required by 10 CFR 50.91(a), the licensee has provided its analysis of the issue of no significant hazards consideration, which is presented below:

1. Does the proposed amendment involve a significant increase in the probability or consequences of an accident previously evaluated?

[Response: No.]

San Onofre Nuclear Generating Station (SONGS) Units 2 and 3 have permanently ceased operation. The proposed amendment would replace the existing EAL scheme with an EAL scheme that reflects the permanently shut-down status of the plant. The proposed Emergency Action Level Scheme is based on NEI [Nuclear Energy Institute] 99-01, Revision 6, “Development of Emergency Action Levels for Non-Passive Reactors,” Appendix C for permanently defueled stations. The proposed amendment has no effect on structures, systems, and components (SSCs) and no effect on the capability of any plant SSC to perform its design function. The proposed amendment would not increase the likelihood of the malfunction of any plant SSC.

The spent fuel pool and its support systems are used for spent fuel storage. It is expected that SONGS will remain in a wet fuel storage configuration for approximately five years. In this condition, the spectrum of postulated accidents is much smaller than for an operational plant. As a result of the certifications submitted by SCE in accordance with 10 CFR 50.82(a)(1), and the consequent removal of authorization to operate the reactor or to place or retain fuel in the reactor in accordance with 10 CFR 50.82(a)(2), most of the accident scenarios postulated in the SONGS Final Safety Analysis Report are no longer possible, and there is no significant increase in consequences of previously postulated accidents.

The proposed license amendment will not significantly increase the probability of occurrence of previously evaluated accidents, since most previously analyzed accidents can no longer occur and the probability or consequences of the few remaining are unaffected by the proposed amendment.

Therefore, the proposed amendment does not involve a significant increase in the probability or consequences of an accident previously evaluated.

2. Does the proposed amendment create the possibility of a new or different kind of accident from any accident previously evaluated?

[Response: No.]

The proposed amendment does not involve any change in the plant's design, configuration, or operation. The proposed changes have no impact on facility SSCs affecting the safe storage of irradiated fuel, or in the methods of operation of such SSCs, or on the handling and storage of irradiated fuel itself. The proposed EAL scheme is for the plant's defueled condition. There is no impact on the prevention, diagnosis, or mitigation of accidents previously evaluated. Accidents cannot result in different or more adverse failure modes or accidents than those previously evaluated because the reactors are permanently shut down and defueled and SONGS is no longer authorized to operate the reactors.

The proposed EAL scheme does not make changes to the systems credited in the remaining relevant accident analyses. No changes are being made to parameters within which the plant is normally operated or in the setpoints which initiate protective or mitigating actions, and no new failure modes are being introduced or new accident precursors that could initiate a new or different kind of accident. Proper control and monitoring of safety significant parameters and activities such as dose assessments to determine any radiological releases and provisions for communications and coordination with offsite organizations will be maintained.

The proposed amendment does not introduce a new mode of plant operation or new accident precursors, does not involve any physical alterations to plant configuration, or make changes to system setpoints that could initiate a new or different kind of accident.

Therefore, the proposed amendment does not create the possibility of a new or different kind of accident from any accident previously evaluated.

3. Does the proposed amendment involve a significant reduction in a margin of safety?

[Response: No.]

The proposed amendment to the EAL scheme will provide thresholds for initiation of Emergency Planning actions that are commensurate with the permanently defueled condition of the station. The proposed amendment does not involve a change in the plant's design, configuration, or operation. The proposed amendment does not affect either the way in which the plant SSCs perform their safety function or its design and licensing bases.

Because the 10 CFR part 50 licenses for SONGS no longer authorize operation of the reactor or emplacement or retention of fuel into the reactor vessel, as specified in 10 CFR 50.82(a)(2), the occurrence of postulated accidents associated with reactor operation is no longer possible. The proposed amendment does not adversely affect the inputs or assumptions of any of the design basis analyses that impact the applicable postulated accidents.

The proposed changes to the SONGS EAL scheme do not impact the safe storage of irradiated fuel. The revised scheme does not affect any requirements for SSCs credited in the remaining analyses of applicable postulated accidents; and as such, does not significantly reduce the margin of safety associated with these accident analyses. Postulated design basis accidents involving the reactor are no longer possible because the reactor is permanently shut down and defueled and SONGS is no longer authorized to operate the reactors.

Therefore, the proposed amendment does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Walker A. Matthews, Esquire, Southern California Edison Company, 2244 Walnut Grove Avenue, Rosemead, California 91770.

NRC Branch Chief: Douglas A. Broaddus.

Southern Nuclear Operating Company, Inc. Docket Nos. 52-025 and 52-026, Vogtle Electric Generating Plant Units 3 and 4, Burke County, Georgia

Date of amendment request: November 21, 2014. A publicly-available version is in ADAMS under Accession No. ML14325A835.

Description of amendment request: The proposed changes would revise the Combined Licenses (COLs) changing the description and scope of the Initial Test Program. Because this proposed change requires a departure from Tier 1 information in the Westinghouse Advanced Passive 1000 Design Control Document (DCD), the licensee also requested an exemption from the requirements of the Generic DCD Tier 1 in accordance with Title 10 of the Code of Federal Regulations (10 CFR) 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment is related to the conduct of the Initial Test Program. The proposed changes are made in compliance with the applicable regulatory guides, are only related to the general aspects of how the program is executed and do not change any technical content for preoperational or startup tests. No changes are made to any design aspect of the plant.

Therefore, the proposed amendment does not involve a significant increase in the probability or consequences of an accident previously evaluated.

2. Does the proposed amendment create the possibility of a new or different kind of accident from any accident previously evaluated?

Response: No.

The proposed amendment is related to the conduct of the Initial Test Program. The proposed changes are made in compliance with the applicable regulatory guides, are only related to the general aspects of how the program is executed and do not change any technical content for preoperational or startup tests. These changes do not affect the design or analyzed operation of any system.

Therefore, the proposed amendment does not create the possibility of a new or different kind of accident from any accident previously evaluated.

3. Does the proposed amendment involve a significant reduction in a margin of safety?

Response: No.

The proposed amendment is related to the conduct of the Initial Test Program. The proposed changes are made in compliance with the applicable regulatory guides, are only related to the general aspects of how the program is executed and do not change any technical content for preoperational or startup tests. No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-369 and 50-370, McGuire Nuclear Station, Units 1 and 2, Mecklenburg County, North Carolina

Date of application for amendments: January 28, 2014.

Brief description of amendments: The amendments modified Technical Specification (TS) 3.4.12. Specifically, the change removes a reference to Condition E when entering Condition G.

Date of issuance: December 11, 2014.

Effective date: This license amendment is effective as of its date of issuance and shall be implemented within 30 days of issuance.

Amendment Nos.: Unit 1—275 and Unit 2—255. A publicly-available version is in ADAMS under Accession No. ML14332A790; documents related to these amendments are listed in the Safety Evaluation enclosed with the amendments.

Renewed Facility Operating License Nos. NPF-9 and NPF-17: Amendments revised the licenses and Technical Specifications.

Date of initial notice in Federal Register April 1, 2014 (79 FR 18330).

The Commission's related evaluation of the amendments is contained in a Safety Evaluation dated December 11, 2014.

No significant hazards consideration comments received: No.

Entergy Gulf States Louisiana, LLC, and Entergy Operations, Inc., Docket No. 50-458, River Bend Station, Unit 1, West Feliciana Parish, Louisiana

Date of amendment request: May 28, 2013, as supplemented by letter dated May 8, 2014.

Brief description of amendment: The amendment revised Technical Specification (TS) 2.1.1, “Reactor Core SLs [Safety Limits],” to reduce the reactor dome pressure from 785 pounds per square inch gauge (psig) to 685 psig. These changes resolve a calculational defect reported under 10 CFR part 21 concerning a potential to momentarily violate the reactor safety limits in TSs 2.1.1.1 and 2.1.1.2 during a Pressure Regulator Failure-Open transient as reported by General Electric Nuclear Energy.

Date of issuance: December 11, 2014.

Effective date: As of the date of issuance and shall be implemented 60 days from the date of issuance.

Amendment No.: 182. A publicly-available version is in ADAMS under Accession No. ML14192A831; documents related to this amendment are listed in the Safety Evaluation enclosed with the amendment.

Facility Operating License No. NPF-47: The amendment revised the Facility Operating License and Technical Specifications.

Date of initial notice in Federal Register: August 6, 2013 (78 FR 47788). The supplemental letter dated May 8, 2014, provided additional information that clarified the application, did not expand the scope of the application as originally noticed, and did not change the staff's original proposed no significant hazards consideration determination as published in the Federal Register.

The Commission's related evaluation of the amendment is contained in a Safety Evaluation dated December 11, 2014.

No significant hazards consideration comments received: No.

Entergy Gulf States Louisiana, LLC, and Entergy Operations, Inc., Docket No. 50-458, River Bend Station, Unit 1, West Feliciana Parish, Louisiana

Date of amendment request: November 4, 2013.

Brief description of amendment: The amendment revised Technical Specification (TS) Sections 3.6.4.3, “Standby Gas Treatment (SGT) System,” 3.6.4.7, “Fuel Building Ventilation System—Fuel Handling,” 3.7.2, “Control Room Fresh Air (CRFA) System,” and 5.5.7, “Ventilation Filter Testing Program (VFTP).” Specifically, the amendment eliminates the operability and Surveillance Requirements for the heaters in the safety-related charcoal filter trains in those systems, and revises certain charcoal test specifications.

Date of issuance: December 12, 2014.

Effective date: As of the date of issuance and shall be implemented 60 days from the date of issuance.

Amendment No.: 183. A publicly-available version is in ADAMS under Accession No. ML14225A444; documents related to this amendment are listed in the Safety Evaluation enclosed with the amendment.

Facility Operating License No. NPF-47: The amendment revised the Facility Operating License and Technical Specifications.

Date of initial notice in Federal Register: March 4, 2014 (79 FR 12243).

The Commission's related evaluation of the amendment is contained in a Safety Evaluation dated December 12, 2014.

No significant hazards consideration comments received: No.

Entergy Gulf States Louisiana, LLC, and Entergy Operations, Inc., Docket No. 50-458, River Bend Station, Unit 1 (RBS), West Feliciana Parish, Louisiana

Date of amendment request: February 25, 2014.

Brief description of amendment: The amendment approved a change to the facility operating license for RBS. The change revised the date for implementation of Milestone 8 of the Cyber Security Plan (CSP) Implementation Schedule and the existing license conditions in the facility operating license. Milestone 8 of the CSP implementation schedule concerns the full implementation of the CSP.

Date of issuance: December 12, 2014.

Effective date: As of the date of issuance and shall be implemented 60 days from the date of issuance.

Amendment No.: 184. A publicly-available version is in ADAMS under Accession No. ML14304A181; documents related to this amendment are listed in the Safety Evaluation enclosed with the amendment.

Facility Operating License No. NPF-47: The amendment revised the Facility Operating License.

Date of initial notice in Federal Register: July 8, 2014 (79 FR 38576).

The Commission's related evaluation of the amendment is contained in a Safety Evaluation dated December 12, 2014.

No significant hazards consideration comments received: No.

Entergy Nuclear Operations, Inc., Docket Nos. 50-003, 50-247 and 50-286, Indian Point Nuclear Generating Unit Nos. 1, 2 and 3, Westchester County, New York

Date of amendment request: January 30, 2014, as supplemented by letter dated June 12, 2014.

Brief description of amendment): The amendments revised the Cyber Security Plan Milestone 8 full implementation date and the existing Physical Protection license conditions by extending the full implementation date to June 30, 2016.

Date of issuance: December 11, 2014.

Effective date: As of the date of issuance, and shall be implemented within 30 days.

Amendment Nos.: 57, 279, and 254. A publicly-available version is in ADAMS under Accession No. ML14316A526; documents related to these amendments are listed in the Safety Evaluation enclosed with the amendments.

Facility Operating License Nos. DPR-5, DPR-26, and DPR-64: The amendment revised the Provisional Operating License for Unit No. 1 and the Facility Operating Licenses for Unit Nos. 2 and 3.

Date of initial notice in Federal Register: May 6, 2014 (79 FR 25899). The supplemental letter dated June 12, 2014, provided additional information that clarified the application, did not expand the scope of the application as originally noticed, and did not change the NRC staff's original proposed no significant hazards consideration determination as published in the Federal Register.

The Commission's related evaluation of the amendment is contained in a Safety Evaluation dated December 11, 2014.

No significant hazards consideration comments received: No.

Entergy Nuclear Operations, Inc., Docket No. 50-293, Pilgrim Nuclear Power Station (Pilgrim), Plymouth County, Massachusetts

Date of amendment request: January 31, 2014, as supplemented by letter dated July 1, 2014.

Brief description of amendment: The amendment revised the Pilgrim operating license by modifying the Physical Protection license condition, related to the Cyber Security Plan (CSP). The CSP Milestone 8 full implementation date was changed from December 15, 2014, to June 30, 2016.

Date of issuance: December 11, 2014.

Effective date: As of the date of issuance, and shall be implemented within 60 days.

Amendment No.: 241. A publicly-available version is in ADAMS under Accession No. ML14336A661; documents related to this amendment are listed in the Safety Evaluation enclosed with the amendment.

Renewed Facility Operating License No. DPR-35: The amendment revised the License.

Date of initial notice in Federal Register: August 5, 2014 (79 FR 45487). The supplemental letter dated July 1, 2014, provided additional information that clarified the application, did not expand the scope of the application as originally noticed, and did not change the NRC staff's original proposed no significant hazards consideration determination as published in the Federal Register.

The Commission's related evaluation of the amendment is contained in a Safety Evaluation dated December 11, 2014.

No significant hazards consideration comments received: No.

Entergy Nuclear Vermont Yankee, LLC and Entergy Nuclear Operations, Inc., Docket No. 50-271, Vermont Yankee Nuclear Power Station, Vernon, Vermont

Date of amendment request: October 31, 2013, as supplemented by letters dated April 24, 2014, July 16, 2014, and December 5, 2014.

Description of amendment request: The amendment revised and removed certain requirements from the Section 6.0, “Administrative Controls,” portions of the Vermont Yankee Technical Specifications that are no longer applicable to the facility in a permanently defueled condition.

Date of Issuance: December 22, 2014.

Effective date: The license amendment becomes effective upon the licensee's submittal of the certifications required by 10 CFR 50.82(a)(1)(i) and (ii).

Amendment No.: 260. A publicly-available version is in ADAMS under Accession No. ML14217A072; documents related to this amendment are listed in the Safety Evaluation enclosed with the amendment.

Facility Operating License No. DPR-28: Amendment revised the License.

Date of initial notice in Federal Register: February 19, 2014 (79 FR 9494). The supplemental letters dated April 24, July 16, and December 5, 2014, provided additional information that clarified the application, did not expand the scope of the application as originally noticed, and did not change the NRC staff's original proposed no significant hazards consideration determination as published in the Federal Register.

The Commission's related evaluation of this amendment is contained in a Safety Evaluation dated December 22, 2014.

No significant hazards consideration comments received: No.

Entergy Operations, Inc., Docket No. 50-382, Waterford Steam Electric Station, Unit 3, St. Charles Parish, Louisiana

Date of amendment request: August 4, 2014.

Brief description of amendment: The amendment approved a change to the facility operating license for Waterford Steam Electric Station, Unit 3. The change revised the date for implementation of Milestone 8 of the Cyber Security Plan (CSP) Implementation Schedule and the existing license conditions in the facility operating license. Milestone 8 of the CSP implementation schedule concerns the full implementation of the CSP.

Date of issuance: December 10, 2014.

Effective date: As of the date of issuance and shall be implemented 60 days from the date of issuance.

Amendment No.: 241. A publicly-available version is in ADAMS under Accession No. ML14321A713; documents related to this amendment are listed in the Safety Evaluation enclosed with the amendment.

Facility Operating License No. NPF-38: The amendment revised the Facility Operating License.

Date of initial notice in Federal Register: October 7, 2014 (79 FR 60518).

The Commission's related evaluation of the amendment is contained in a Safety Evaluation dated December 10, 2014.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: December 19, 2013, as supplemented by letter dated June 11, 2014.

Brief description of amendment: The amendment approved a change to the Grand Gulf Nuclear Station, Unit 1 facility operating license to revise the date for implementation of Milestone 8 of the Cyber Security Plan (CSP) Implementation Schedule and the existing license conditions in the facility operating license. Milestone 8 of the CSP implementation schedule concerns the full implementation of the CSP.

Date of issuance: December 12, 2014.

Effective date: As of the date of issuance and shall be implemented within 30 days of issuance.

Amendment No: 200. A publicly-available version is in ADAMS under Accession No. ML14311A479; documents related to this amendment are listed in the Safety Evaluation enclosed with the amendment.

Facility Operating License No. NPF-29: The amendment revised the Facility Operating License.

Date of initial notice in Federal Register: July 8, 2014 (79 FR 38576). The supplemental letter dated June 11, 2014, provided additional information that clarified the application, did not expand the scope of the application as originally noticed, and did not change the staff's original proposed no significant hazards consideration determination as published in the Federal Register.

The Commission's related evaluation of the amendment is contained in a Safety Evaluation dated December 12, 2014.

No significant hazards consideration comments received: No.

Exelon Generation Company, LLC, Docket Nos. 50-352, 50-353, and 72-65, Limerick Generating Station, Unit 1 and 2, Montgomery County, Pennsylvania

Exelon Generation Company, LLC, et al., Docket Nos. 50-219 and 72-15, Oyster Creek Nuclear Generating Station, Ocean County, New Jersey

Exelon Generation Company, LLC, and PSEG Nuclear LLC, Docket Nos. 50-171, 50-277, 50-278, and 72-29, Peach Bottom Atomic Power Station, Units 1, 2 and 3, York and Lancaster Counties, Pennsylvania

Exelon Generation Company, LLC, Docket Nos. 50-289 and 50-320, Three Mile Island Nuclear Station, Units 1 and 2, Dauphin County, Pennsylvania

Date of application for amendments: October 30, 2013, as supplemented by letter dated June 13, 2014.

Brief description of amendments: The amendments revised the Emergency Plan definition of Annual Training from “Retraining is performed on an annual basis, which is defined as every 12-months + 3 months (25% grace period),” to “Retraining is performed once per year not to exceed 18-months between training sessions.”

Date of issuance: December 24, 2014.

Effective date: As of the date of issuance and shall be implemented within 90 days from the date of issuance.

Amendment Nos.: 212, 173, 283, 12, 294, 297, and 283. A publicly-available version is in ADAMS under Accession No. ML14226A940; documents related to these amendments are listed in the Safety Evaluation enclosed with the amendments.

Renewed Facility Operating License Nos. NPF-39, NPF-85, DPR-16, DPR-12, DPR-44, DPR-56, DPR-50, and DPR-73: The amendments revised the Emergency Plan.

Date of initial notice in Federal Register: April 1, 2014 (79 FR 18333). The supplemental letter dated June 13, 2014, provided additional information that clarified the application, did not expand the scope of the application as originally noticed, and did not change the staff's original proposed no significant hazards consideration determination as published in the Federal Register.

The Commission's related evaluation of the amendments is contained in a Safety Evaluation dated December 24, 2014.

No significant hazards consideration comments received: No.

Indiana Michigan Power Company, Docket Nos. 50-315 and 50-316, Donald C. Cook Nuclear Plant, Units 1 and 2, Berrien County, Michigan

Date of amendment request: January 10, 2014, as supplemented by letter dated May 27, 2014.

Brief description of amendments: The amendments revised the schedule for full implementation of the cyber security plan (CSP) and Paragraph 2.D of Renewed Facility Operating License Nos. DPR-58 and DPR-74 for CNP, Units 1 and 2, respectively. The CSP and associated implementation schedule for CNP, Units 1 and 2 was previously approved by NRC staff letter dated July 28, 2011, as supplemented by changes approved in a letter dated December 13, 2012

Date of issuance: December 18, 2014.

Effective date: As of the date of issuance and shall be implemented within 60 days of issuance.

Amendment Nos.: 325 and 308. A publicly-available version is in ADAMS under Accession No. ML14317A551; documents related to this amendment are listed in the Safety Evaluation enclosed with the amendment.

Renewed Facility Operating License Nos. DPR-58 and DPR-74: Amendments revised the Renewed Facility Operating Licenses.

Date of initial notice in Federal Register: July 8, 2014 (79 FR 38579). The supplemental letter dated May 27, 2014, provided additional information that clarified the application, did not expand the scope of the application as originally noticed, and did not change the staff's original proposed no significant hazards consideration determination as published in the Federal Register.

The Commission's related evaluation of the amendment is contained in a Safety Evaluation dated December 18, 2014.

No significant hazards consideration comments received: No.

Nebraska Public Power District, Docket No. 50-298, Cooper Nuclear Station (CNS), Nemaha County, Nebraska

Date of amendment request: March 14, 2014, as supplemented by letter dated July 28, 2014.

Brief description of amendment: The amendment revised the CNS Cyber Security Plan (CSP) Milestone 8 full implementation date as set forth in the CSP Implementation Schedule. The amendment also revised the physical protection license condition in the renewed facility operating license.

Date of issuance: December 12, 2014.

Effective date: As of the date of issuance and shall be implemented within 30 days of issuance.

Amendment No.: 249. A publicly-available version is in ADAMS under Accession No. ML14323A644; documents related to this amendment are listed in the Safety Evaluation enclosed with the amendment.

Renewed Facility Operating License No. DPR-46: Amendment revised the renewed facility operating license.

Date of initial notice in Federal Register: July 8, 2014 (79 FR 38580). The supplemental letter dated July 28, 2014, provided additional information that clarified the application, did not expand the scope of the application as originally noticed, and did not change the staff's original proposed no significant hazards consideration determination as published in the Federal Register.

The Commission's related evaluation of the amendment is contained in a Safety Evaluation dated December 12, 2014.

No significant hazards consideration comments received: No.

Omaha Public Power District, Docket No. 50-285, Fort Calhoun Station, Unit No. 1, Washington County, Nebraska

Date of amendment request: March 31, 2014.

Brief description of amendment: The amendment revised Technical Specification 2.5, “Steam and Feedwater Systems,” to allow a 7-day completion time for restoration of the turbine-driven auxiliary feedwater pump if it becomes inoperable following a refueling outage and if Mode 2 has not yet been entered, based on Technical Specification Task Force (TSTF) Traveler TSTF-340, Revision 3.

Date of issuance: December 22, 2014.

Effective date: As of the date of issuance and shall be implemented within 120 days from the date of issuance.

Amendment No.: 278. A publicly-available version is in ADAMS under Accession No. ML14328A814; documents related to this amendment are listed in the Safety Evaluation enclosed with the amendment.

Renewed Facility Operating License No. DPR-40: The amendment revised the license and Technical Specifications.

Date of initial notice in Federal Register: July 8, 2014 (79 FR 38592).

The Commission's related evaluation of the amendment is contained in a safety evaluation dated December 22, 2014.

No significant hazards consideration comments received: No.

PSEG Nuclear LLC, Docket No. 50-354, Hope Creek Generating Station, Salem County, New Jersey

Date of amendment request: September 5, 2013.

Brief description of amendment: The amendment relocates the operability and surveillance requirements for flood protection from the Technical Specifications to the Technical Requirements Manual.

Date of issuance: December 18, 2014.

Effective date: As of the date of issuance and shall be implemented within 60 days.

Amendment No.: 196. A publicly-available version is in ADAMS under Accession No. ML14108A399; documents related to this amendment are listed in the Safety Evaluation enclosed with the amendments.

Renewed Facility Operating License No. NPF-57: Amendment revised the Facility Operating License and Technical Specifications.

Date of initial notice in Federal Register: April 15, 2014 (79 FR 21299).

The Commission's related evaluation of the amendment is contained in a Safety Evaluation dated December 18, 2014.

No significant hazards consideration comments received: No.

PSEG Nuclear LLC, Docket Nos. 50-354, 50-272, and 50-311, Hope Creek Generating Station and Salem Nuclear Generating Station, Unit Nos. 1 and 2, Salem County, New Jersey

Date of amendment request: December 24, 2013, as supplemented by letters dated June 23, 2014, and August 18, 2014.

Brief description of amendment: The amendments revised the Hope Creek Generating Station and Salem Nuclear Generating Station, Unit Nos. 1 and 2, Cyber Security Plan (CSP) Milestone 8 full implementation date, as set forth in the CSP implementation schedule and the existing License Condition 2.E in the Renewed Facility Operating Licenses NPF-57, DPR-70, and DPR-75.

Date of issuance: December 23, 2014.

Effective date: As of the date of issuance and shall be implemented within 60 days of issuance.

Amendment Nos.: 197, 306, and 288. A publicly-available version is in ADAMS under Accession No. ML14323A974; documents related to this amendment are listed in the Safety Evaluation enclosed with the amendments.

Renewed Facility Operating License Nos. NPF-57, DPR-70, and DPR-75: Amendments revised the Renewed Facility Operating Licenses.

Date of initial notice in Federal Register: September 9, 2014 (79 FR 53461). The supplemental letters dated June 23, 2014, and August 18, 2014, provided additional information that clarified the application, did not expand the scope of the application as originally noticed, and did not change the staff's original proposed no significant hazards consideration determination as published in the Federal Register.

The Commission's related evaluation of the amendment is contained in a Safety Evaluation dated December 23, 2014.

No significant hazards consideration comments received: No.

South Carolina Electric and Gas Company, Docket Nos. 52-027 and 52-028, Virgil C. Summer Nuclear Station (VCSNS), Units 2 and 3, Fairfield County, South Carolina

Date of amendment request: December 4, 2013 and September 8, 2014.

Brief description of amendment: The amendment revised various technical specifications (TS) to upgrade the VCSNS TS to improve operator usability by more closely aligning the TS with the latest form and content of standard TS.

Date of issuance: November 12, 2014.

Effective date: As of the date of issuance and shall be implemented within 90 days of issuance.

Amendment No.: 20. A publicly available version is in ADAMS under Accession No. ML14265A072; documents related to this amendment are listed in the Safety Evaluation enclosed with the amendment.

Facility Combined Licenses No. NPF-93 and NPF-94: Amendment revised the Facility Combined Licenses.

Date of initial notice in Federal Register: April 1, 2014 (79 FR 18334).

The Commission's related evaluation of the amendment is contained in a Safety Evaluation dated November 12, 2014.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of application for amendments: January 16, 2014, as supplemented by letters dated May 2 and July 22, 2014.

Brief description of amendments: The amendments revised Technical Specification 3.7.5, Control Room Air Conditioning System, to provide new Required Actions (RAs) for one, two, or three main control room AC subsystems inoperable, and make other required corresponding changes.

Date of issuance: December 10, 2014.

Effective date: As of the date of issuance and shall be implemented within 90 days from the date of issuance.

Amendment Nos.: Unit 1—270 and Unit 2—214. A publicly-available version is in ADAMS under Accession No. ML14279A261; documents related to these amendments are listed in the Safety Evaluation enclosed with the amendments.

Renewed Facility Operating License Nos. DPR-57 and NPF-5: Amendments revised the licenses and the Technical Specifications.

Date of initial notice in Federal Register: August 19, 2014 (79 FR 49110). The supplemental letter dated May 2 and July 22, 2014, provided additional information that clarified the application, did not expand the scope of the application as originally noticed, and did not change the staff's original proposed no significant hazards consideration determination as published in the Federal Register.

The Commission's related evaluation of the amendments is contained in a Safety Evaluation dated December 10, 2014.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of application for amendments: December 21, 2012, as supplemented by letter dated June 21, 2013.

Brief description of amendments: The amendments revised the Renewed Operating Licenses to incorporate a degraded voltage protection modification schedule into the Hatch licenses.

Date of issuance: December 16, 2014.

Effective date: As of the date of issuance and shall be implemented within 60 days from the date of issuance.

Amendment Nos.: Unit 1—271 and Unit 2—215. A publicly-available version is in ADAMS under Accession No. ML14328A323; documents related to this these amendments are listed in the Safety Evaluation enclosed with the amendments.

Renewed Facility Operating License Nos. DPR-57 and NPF-5: Amendments revised the licenses.

Date of initial notice in Federal Register: September 3, 2013 (78 FR 54289).

The Commission's related evaluation of the amendments is contained in a Safety Evaluation dated December 16, 2014.

No significant hazards consideration comments received: No.

Dated at Rockville, Maryland, this 29th day of December 2014.
For the Nuclear Regulatory Commission.
George A. Wilson,
Deputy Director, Division of Operating Reactor Licensing, Office of Nuclear Reactor Regulation.

[FR Doc. 2014-30966 Filed 1-5-15; 8:45 am]

BILLING CODE 7590-01-P